COMMISSION ON CIVIL RIGHTS

Agenda and Notice of Public Meeting of the New York State Advisory Committee

Notice is hereby given, pursuant to the provisions of the rules and regulations of the U.S. Commission on Civil Rights, that a meeting of the New York State Advisory Committee to the Commission will convene at 12:30 p.m. and adjourn at 5:00 p.m. on Thursday, June 22, 2000, at the Sheraton University Hotel, 801 University Avenue, Syracuse, NY 13210. The Committee will (1) review its project proposal, Police-Community Relations in New York (2) plan a series of forums around the state based on the proposal and (3) be briefed by community advocates and officials on police-community relations in Syracuse.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, May 25, 2000.
Lisa M. Kelly,
Special Assistant to the Staff Director, Regional Programs Coordination Unit.

[FR Doc. 00-13678 Filed 5-31-00; 8:45 am]

BILLING CODE 6335-01-F